DEPARTMENT OF COMMERCE

National Oceanic and Atmospheric Administration

Hydrographic Services Review Panel Meeting

AGENCY: National Ocean Service, National Oceanic and Atmospheric Administration (NOAA), Department of Commerce.

ACTION: Notice of open public meeting.

SUMMARY: The Hydrographic Services Review Panel (HSRP) will hold a meeting that will be open to the public and public comments are requested in advance and/or during the meeting. Information about the HSRP meeting, agenda, presentations, webinar registration, and other background documents will be posted online at: https://www.nauticalcharts.noaa.gov/hsrp/hsrp.htm.

DATES: The meeting is April 4-5, 2018. The dates, agenda, and times are subject to change. For updates, please check online at: https://www.nauticalcharts.noaa.gov/hsrp/hsrp.htm.

ADDRESSES: Miami, Florida, with meeting venue to be announced online in March at: https://www.nauticalcharts.noaa.gov/hsrp/hsrp.htm.

FOR FURTHER INFORMATION CONTACT: Lynne Mersfelder-Lewis, HSRP program manager, National Ocean Service, Office of Coast Survey, NOAA (N/NSD), 1315 East-West Highway, SSMC3 #6305, Silver Spring, Maryland 20910; telephone: 301-533-0064; email: Lynne.Mersfelder@noaa.gov.

SUPPLEMENTARY INFORMATION: The meeting is open to the public, seating will be available on a first-come, first-served basis, and public comment is encouraged. There are public comment periods scheduled each day and noted in the agenda. Each individual or group making verbal comments will be limited to a total time of five (5) minutes and will be recorded. For those not onsite, comments can be submitted via the webinar chat function or via email in writing. Individuals who would like to submit written statements in advance, during or after the meeting should email their comments to Lynne.Mersfelder@noaa.gov. The HSRP will provide webinar capability. Pre-registration is required to access the webinar and is at the following: https://attendee.gotowebinar.com/register/6210294947783426818.

The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice. The charter and other information are located online at: https://www.nauticalcharts.noaa.gov/hsrp/CharterBylawsHSIAStatute.htm. Past HSRP public meeting summary reports, agendas, presentations, transcripts, webinars, and other information is available online at: https://www.nauticalcharts.noaa.gov/hsrp/meetings.htm.

Matters to be considered: The panel is convening to hear federal, state, regional and local partners and stakeholders on issues relevant to NOAA's navigation services, focusing on Florida and the U.S. Caribbean region as well as national issues. Navigation services include the data, products, and services provided by the NOAA programs and activities that undertake geodetic observations, gravity modeling, shoreline mapping, bathymetric mapping, hydrographic surveying, nautical charting, tide and water level observations, current observations, and marine modeling. This suite of NOAA products and services support safe and efficient navigation, resilient coasts and communities, and the nationwide positioning information infrastructure to support America's commerce. The Panel will hear from state and federal agencies, non-federal organizations, and partners about their missions and use of NOAA's navigation services, the value these services bring, and what improvements could be made. Other administrative matters may be considered. The agenda is subject to change.

Special accommodations: This meeting is physically accessible to people with disabilities. Please direct requests for sign language interpretation or other auxiliary aids to Lynne.Mersfelder@noaa.gov by March 15, 2018.

Dated: February 1, 2018.
Kathryn Ries,
Deputy Director, Office of Coast Survey, National Ocean Service, National Oceanic and Atmospheric Administration.

[FR Doc. 2018-02968 Filed 2-13-18; 8:45 am]

BILLING CODE 3510-JE-P